DEPARTMENT OF COMMERCE

Patent and Trademark Office

[Docket No. PTO-T-2011-0063]

Trademark Manual of Examining Procedure, Eighth Edition

AGENCY: United States Patent and Trademark Office, Commerce.

ACTION: Notice.

SUMMARY: To provide information on trademark examination policy and procedure, the United States Patent and Trademark Office (“USPTO”) issued the eighth edition of the Trademark Manual of Examining Procedure (“TMEP”), and made available an archived copy of the seventh edition, on October 15, 2011.

ADDRESSES: The USPTO prefers that any suggestions for improving the form and content of the TMEP be submitted via electronic mail message to tmtmep@uspto.gov. Written comments may also be submitted by mail addressed to: Commissioner for Trademarks, P.O. Box 1451, Alexandria, VA 22313-1451, marked to the attention of Editor, Trademark Manual of Examining Procedure, or by hand delivery to the Trademark Assistance Center, Concourse Level, James Madison Building-East Wing, 600 Dulany Street Alexandria, Virginia, marked to the attention of Editor, Trademark Manual of Examining Procedure.

FOR FURTHER INFORMATION CONTACT: Catherine P. Cain, Office of the Deputy Commissioner for Trademark Examination Policy, by electronic mail at: catherine.cain@uspto.gov; or by mail addressed to: Commissioner for Trademarks, P.O. Box 1451, Alexandria, VA 22313-1451, marked to the attention of Catherine P. Cain.

SUPPLEMENTARY INFORMATION: On October 15, 2011, the USPTO issued the eighth edition of the TMEP, which provides USPTO trademark examining attorneys, trademark applicants, and attorneys and representatives for trademark applicants with a reference on the practices and procedures for prosecution of applications to register marks in the USPTO. The TMEP contains guidelines for examining attorneys and materials in the nature of information and interpretation, and outlines the procedures which examining attorneys are required or authorized to follow in the examination of trademark applications.

The eighth edition incorporates USPTO trademark practice and relevant case law reported prior to September 1, 2011. The policies stated in this revision supersede any previous policies stated in prior editions, examination guides, or any other statement of USPTO policy, to the extent that there is any conflict. The eighth edition also includes a collaboration tool, offered through a program called IdeaScale®, which permits the user community to provide public comments that are accessible to both the user community and the Office. The collaboration tool is currently open to Chapters 500, 900, and 1900. The eighth edition of the TMEP may be viewed or downloaded free of charge from the USPTO Web site at http://tess2.uspto.gov/tmdb/tmep/.

An archived copy of the seventh edition of the TMEP also remains available for reference. Links to the seventh edition, as well as to the fourth, fifth, and sixth editions, are on the USPTO Web site at http://www.uspto.gov/trademarks/resources/TMEParchives.jsp.

Dated: November 1, 2011.
David J. Kappos,
Under Secretary of Commerce for Intellectual Property and Director of the United States Patent and Trademark Office.

[FR Doc. 2011-28775 Filed 11-4-11; 8:45 am]

BILLING CODE 3510-16-P